DEPARTMENT OF TRANSPORTATION

Federal Aviation Administration

14 CFR Part 71

[Docket No. FAA 2001-10002; Airspace Docket No. 00-ASO-25]

RIN 2120-AA66

Realignment of Jet Routes and VOR Federal Airways; FL

AGENCY: Federal Aviation Administration (FAA), DOT.

ACTION: Final rule.

SUMMARY: This action realigns two jet routes and four Very High Frequency Omnidirectional Range (VOR) Federal airways in the vicinity of Gainesville, FL, due to the relocation of the Gainesville, FL, Very High Frequency Omnidirectional Range/Tactical Air Navigation (VORTAC) facility. This action also changes the name of the “Gainesville VORTAC” to “Gators VORTAC.” The FAA is taking this action because the previous VORTAC site was unusable due to recurring flooding. The VORTAC has been moved to a new location at the Gainesville, FL, Airport. This action will enable more efficient management of air traffic in the Gainesville, FL, area.

EFFECTIVE DATE: 0901 UTC, November 1, 2001.

FOR FURTHER INFORMATION CONTACT: Paul Gallant, Airspace and Rules Division, ATA-400, Office of Air Traffic Airspace Management, Federal Aviation Administration, 800 Independence Avenue, SW., Washington, DC 20591; telephone: (202) 267-8783.

SUPPLEMENTARY INFORMATION:

Background

The Gainesville, FL, VORTAC was removed from service on February 24, 1998, due to flooding at the facility site in the Paynes Prairie Reserve, FL. Water entered the VORTAC building and covered the access road with 2 to 3 feet of water. The Paynes Prairie Reserve site is prone to flooding and, therefore, the FAA has determined that the best course of action is to move the facility permanently to a new location at the Gainesville Airport, FL, approximately 8 miles north of the former site. The relocation of the VORTAC requires that segments of the affected jet routes and VOR Federal airways be redescribed.

The Rule

This action amends 14 CFR part 71 by revising the legal descriptions of two jet routes (J-55 and J-85) and four VOR Federal airways (V-157, V-441, V-537, and V-579), as a result of the relocation of the Gainesville, FL, VORTAC. The FAA is taking this action because the VORTAC facility has been moved to a new site approximately 8 miles north of its former location. The former site was deemed unsuitable due to recurring flooding which caused the VORTAC to be shutdown. In addition, this action changes the name of the “Gainesville VORTAC” to “Gators VORTAC.” This action makes minor amendments in the legal descriptions to align the affected jet route and VOR Federal airway segments with the new VORTAC site and reflect the new name of the facility. This action also restores a necessary navigational aid, and portions of the jet route and VOR Federal airway structures near Gainesville, FL, that have been unusable since February 1998.

The FAA obtained a new site, located at the Gainesville Regional Airport, to accommodate the move of VORTAC facility. Site preparation, construction of the building, and installation of the antenna and associated equipment are complete. In addition, required flight inspections have been performed. This rule is necessary to revise the descriptions of the affected VOR Federal airways and jet routes, as described above, to align them with the new geographical position of the Gators VORTAC.

The shutdown of the Gainesville VORTAC in 1998 resulted in the loss of an important National Airspace System navigational aid at a key, high volume juncture in north central Florida. As a result of this outage, a number of factors have impacted system efficiency and safety, including: increased air traffic controller workload due to the requirement to issue revised routings and air traffic control clearances; disruption of transition and arrival routes serving local terminal areas; and the loss of a heavily used navigational aid important to pilots flying under both instrument flight rules and visual flight rules (VFR). The VORTAC's proximity to numerous restricted areas, wherein activities hazardous to aviation are conducted, make it a particularly important aid to assist VFR pilots in avoiding those areas. Because this action is needed for safety and system efficiency reasons, the FAA finds that notice and public procedure under 5 U.S.C. 553(b) are impracticable and contrary to the public interest.

The FAA has determined that this regulation only involves an established body of technical regulations for which frequent and routine amendments are necessary to keep them operationally current. Therefore, this regulation: (1) is not a “significant regulatory action” under Executive Order 12866; (2) is not a “significant rule” under Department of Transportation (DOT) Regulatory Policies and Procedures (44 FR 11034, February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

Jet routes and VOR Federal airways are published in paragraphs 2004 and 6010(a), respectively, of FAA Order 7400.9H, dated September 1, 2000, and effective September 16, 2000, which is incorporated by reference in 14 CFR 71.1. The jet routes and VOR Federal airways listed in this document will be published subsequently in the Order.

List of Subjects in 14 CFR Part 71

Airspace, Incorporation by reference, Navigation (air).

Adoption of Amendment

In consideration of the foregoing, the Federal Aviation Administration amends 14 CFR part 71 as follows:

PART 71—DESIGNATION OF CLASS A, CLASS B, CLASS C, CLASS D, AND CLASS E, AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 2004—Jet Routes.

* * * * *

J-55 [Revised]

From Dolphin, FL; INT Dolphin 331° and Gators, FL, 160°, radials; INT Gators 160° and Craig, FL, 192°, radials; Craig; INT Craig 004° and Savannah, GA, 197° radials; Savannah; Charleston, SC; Florence, SC; INT Florence 003° and Raleigh-Durham, NC, 224° radials; Raleigh-Durham; INT Raleigh-Durham 035° and Hopewell, VA, 234° radials; Hopewell; INT Hopewell 030° and Nottingham, MD, 174° radials. From Sea Isle, NJ; INT Sea Isle 050° and Hampton, NY, 223° radials; Hampton; Providence, RI; Boston, MA; Kennebunk, ME; Presque Isle, ME; to Mont Joli, PQ, Canada, excluding the portion within Canada.

* * * * *

J-85 [Revised]

From Dolphin, FL; INT Dolphin 331°and Gators, FL, 160° radials; Gators; Taylor, FL; Alma, GA; Colliers, SC; Spartanburg, SC; Charleston, WV; INT Charleston 357° and DRYER, OH, 172° radials; DRYER. The portion within Canada is excluded.

* * * * *

Paragraph 6010(a)—Domestic VOR Federal Airways.

* * * * *

V-157 [Revised]

From Key West, FL; INT Key West 038° and Dolphin, FL, 244° radials; Dolphin; INT Dolphin 331° and La Belle, FL, 113° radials; La Belle; Lakeland, FL; Ocala, FL; INT Ocala 346° and Taylor, FL, 170° radials; Taylor, FL; Waycross, GA; Alma, GA; Allendale, SC; Vance, SC; Florence, SC; Fayetteville, NC; Kinston, NC; Tar River, NC; Lawrenceville, VA; Richmond, VA; INT Richmond 039° and Patuxent, MD, 228° radials; Patuxent; Smyrna, DE; Woodstown, NJ; Robbinsville, NJ; INT Robbinsville 044° and LaGuardia, NY, 213° radials; LaGuardia; INT LaGuardia 032° and Deer Park, NY, 326° radials; INT Deer Park 326° and Kingston, NY, 191° radials; Kingston, NY; to Albany, NY. The airspace within R-4005, R-4006, R-4007A, and R-6602A is excluded.

* * * * *

V-441 [Revised]

From Melbourne, FL, via INT Melbourne 269° and Lakeland, FL, 081° radials; Lakeland; St. Petersburg, FL; INT St. Petersburg 011° and Ocala, FL, 208° radials; Ocala; Gators, FL; INT Gators 014° and Brunswick, GA, 223° radials; Brunswick; INT Brunswick 052° and Savannah, GA, 180° radials; to Savannah.

* * * * *

V-537 [Revised]

From Vero Beach, FL, via INT Vero Beach 318° and Orlando, FL, 140° radials; INT Orlando 140° and Melbourne, FL, 298° radials; INT Melbourne 298° and Ocala, FL, 145° radials; Ocala; Gators, FL; Greenville, FL; Moultrie, GA; Macon, GA.

* * * * *

V-579 [Revised]

From Lee County, FL; INT Lee County 310° and Sarasota, FL, 156° radials; Sarasota; St. Petersburg, FL; Gators, FL; Cross City, FL; Valdosta, GA; Tift Myers, GA; to Vienna, GA.

* * * * *

Issued in Washington, DC, on August 23, 2001.
Reginald C. Matthews,
Manager, Airspace and Rules Division.

[FR Doc. 01-21815 Filed 8-28-01; 8:45 am]

BILLING CODE 4910-13-P